COMMISSION ON CIVIL RIGHTS

Notice of Public Meeting of the Connecticut Advisory Committee, Revision of Virtual Meeting Platform

AGENCY: Commission on Civil Rights.

ACTION: Notice; revision of virtual meeting platform.

SUMMARY: The Commission on Civil Rights is holding a meeting of the Connecticut Advisory Committee on Monday, May 23, 2022, at 12:00 p.m. ET. This notice revises the virtual meeting platform. The notice is in the Federal Register of Thursday, May 5, 2022, in FR Doc. 2022-09562, in the third column of page 26724 and the first column of 26725.

FOR FURTHER INFORMATION CONTACT: Evelyn Bohor, (202) 921-2212, ebohor@usccr.gov.

Revision: Replace Webex virtual details with Zoom virtual details as follows:

• Zoom Link: https://tinyurl.com/2c7hdxta; password, if needed: USCCR-CT

• To join by phone only, dial: 1-551-285-1373; Meeting ID: 160 654 4108#

Dated: May 11, 2022.
David Mussatt,
Supervisory Chief, Regional Programs Unit.

[FR Doc. 2022-10475 Filed 5-13-22; 8:45 am]

BILLING CODE 6335-01-P